NATIONAL AERONAUTICS AND SPACE ADMINISTRATION

[Notice: 24-067]

NASA Biological and Physical Sciences Advisory Committee

AGENCY: National Aeronautics and Space Administration.

ACTION: Notice of meeting.

SUMMARY: In accordance with the Federal Advisory Committee Act, the National Aeronautics and Space Administration (NASA) announces a meeting of the Biological and Physical Sciences Advisory Committee.

DATES: Friday, November 22, 2024, 10 a.m.-5 p.m. All times are eastern time.

ADDRESSES: Public attendance will be virtual only. See dial-in and Webinar information below under Supplementary Information.

FOR FURTHER INFORMATION CONTACT: Michael Robinson, Designated Federal Officer, Biological and Physical Sciences Advisory Committee, NASA Headquarters, Washington, DC 20546, via email at michael.p.robinson@nasa.gov or (202) 669-0096.

SUPPLEMENTARY INFORMATION: As noted above, this meeting will be open to the public via Webinar and telephonically. Webinar connectivity information is provided below. For audio, when you join the Webinar event, you may use your computer or provide your phone number to receive a call back, otherwise, call the U.S. toll conference number listed.

On November 22nd, the event address for attendees is: webinar web link https://nasaevents.webex.com/nasaevents/j.php?MTID=m159a50d393047a899660ed04853457c1.

The webinar number is 2822 987 6431 and the webinar password is 98SHhR35YnQ (98744735 when dialing from a phone or video system). If needed, the U.S. toll conference number is 1-312-500-3161 or 1-415-527-5035 and access code is 282 298 76431 and password is 98744735.

The agenda for the meeting includes the following topics:

—Decadal Survey Update

—Updates on Space Biology, Physical Sciences, and Fundamental Physics

It is imperative that these meeting be held on these days to accommodate the scheduling priorities of the key participants.

For more information, please visit https://science.nasa.gov/researchers/nac/science-advisory-committees/bpac/.

Jamie M. Krauk,
Advisory Committee Management Officer, National Aeronautics and Space Administration.

[FR Doc. 2024-22289 Filed 9-27-24; 8:45 am]

BILLING CODE 7510-13-P